NUCLEAR REGULATORY COMMISSION

[Docket Nos. 50-275-LR; 50-323-LR]

Pacific Gas and Electric Company (Diablo Canyon Nuclear Power Plant, Units 1 And 2); Notice of Appointment of Adjudicatory Employee

Commissioners: Gregory B. Jaczko, Chairman; Kristine L. Svinicki; George Apostolakis; William D. Magwood, IV; William C. Ostendorff

Pursuant to 10 CFR 2.4, notice is hereby given that Dr. Tianqing Cao, Senior Seismologist, Office of Nuclear Material Safety and Safeguards, has been appointed as a Commission adjudicatory employee within the meaning of section 2.4, to advise the Commission regarding issues relating to pending appeals filed by the applicant and the Nuclear Regulatory Commission staff in this case, as well as a waiver request filed by the petitioner pursuant to 10 CFR 2.335(b). Dr. Cao has not previously performed any investigative or litigating function in connection with this proceeding. Until such time as a final decision is issued in this matter, interested persons outside the agency and agency employees performing investigative or litigating functions in this proceeding are required to observe the restrictions of 10 CFR 2.347 and 2.348 in their communications with Dr. Cao.

It is so ordered.

Dated at Rockville, Maryland, this 5th day of November, 2010.
Annette L. Vietti-Cook,
Secretary of the Commission.

[FR Doc. 2010-30480 Filed 12-3-10; 8:45 am]

BILLING CODE 7590-01-P